DEPARTMENT OF ENERGY

Federal Energy Regulatory Commission

[Docket No. IC13-17-000]

Commission Information Collection Activities (FERC-551); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, Reporting of Flow Volume and Capacity by Interstate Natural Gas Pipelines. This collection originally affected both intrastate and interstate natural gas pipelines, but for reasons described below only pertains to interstate natural gas pipelines.

DATES: Comments on the collection of information are due August 16, 2013.

ADDRESSES: You may submit comments (identified by Docket No. IC13-17-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663, and fax at (202) 273-0873.

SUPPLEMENTARY INFORMATION: Title: Reporting of Flow Volume and Capacity by Interstate Natural Gas Pipelines.

OMB Control No.: 1902-0243.

Type of Request: Three-year extension of the FERC-551 information collection requirements with no changes to the current reporting requirements except as described below.

Abstract: Interstate pipelines are required to post on their Web sites the volumes of no-notice service flows ¹ at each receipt and delivery point before 11:30 a.m. central clock time three days after the day of gas flow.

¹ See 18 CFR 284.7(a)(4) (requiring pipelines to provide no-notice service).

FERC implemented Order Nos. 720 and 720-A to comply with the Energy Policy Act of 2005 (“EPAct 2005”) and specifically Section 23 of EPAct 2005, which amended the NGA to direct FERC to “facilitate price transparency in markets for the sale or transportation of physical natural gas in interstate commerce.” On October 24, 2011, the United States Court of Appeals for the Fifth Circuit issued a decision granting the Texas Pipeline Association and the Railroad Commission's petition for review and vacating FERC's Order Nos. 720 and 720-A. In its order, the 5th Circuit held that Order Nos. 720 and 720-A exceeded the scope of FERC' authority under the Natural Gas Act of 1938 and FERC could not require intrastate natural gas pipelines to post the information. However, the court's decision did not disrupt the reporting and posting obligations of interstate natural gas pipelines.²

² Order Granting Motion to Clarify Opinion, Texas Pipelines Ass'n v. FERC, 661 F.3d 258 (Dec. 20. 2011).

³ The Commission defines burden as the total time, effort, or financial resources expended by persons to generate, maintain, retain, or disclose or provide information to or for a Federal agency. For further explanation of what is included in the information collection burden, reference 5 Code of Federal Regulations 1320.3.

Type of Respondents: Interstate Natural Gas Pipelines.

Estimate of Annual Burden:³ The Commission estimates the total Public Reporting Burden for this information collection for Interstate Natural Gas Pipelines has not changed since the Final Rule on Rehearing was issued on January 21, 2012 in Docket No. RM08-2-001.⁴

Number of respondents | Number of daily postings per respondent | Estimated annual burden hours per respondent | Total annual hours for all respondents
101 | 1 | 183 | 18,483

The Commission estimates $1,040,038 as the total collection cost based on 18,483 hours at $56.27/hour ⁵ (18,483 hours*$56.27/hour=1,040,038 (rounded)).

⁴ 18 CFR still lists the posting requirements for intrastate pipelines at 284.14. The Commission notes that because of the court's decision, FERC no longer requires intrastate pipelines to report this information.

⁵ This figure includes wages plus benefits and comes from the Bureau of Labor Statistics Management Analyst category (13-1111) (http://bls.gov/oes/current/naics2_22.htm and http://www.bls.gov/news.release/ecec.nr0.htm).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 10, 2013.
Kimberly D. Bose,
Secretary.

[FR Doc. 2013-14277 Filed 6-14-13; 8:45 am]

BILLING CODE 6717-01-P